LEGAL SERVICES CORPORATION

Sunshine Act Meetings

TIME AND DATE: The Legal Services Corporation (LSC) Board of Directors will meet virtually on November 20, 2025. The meeting will begin at 10:30 a.m. Eastern Time and continue until the Board concludes its agenda.

Location: Public Notice of Virtual Meeting.

LSC will conduct the November 20, 2025, meeting via videoconference. Unless otherwise noted herein, the meeting will be open to public observation via LSC's YouTube channel: https://www.youtube.com/@LegalServicesCorp/streams.

STATUS: Parts of this meeting will be open to the public. The rest of the meeting will be closed to the public.

MATTERS TO BE CONSIDERED:

PORTIONS OPEN TO THE PUBLIC: Matters to be discussed include a presentation by the LSC Inspector General of its Semiannual Report to Congress; a vote on the Board of Directors' transmittal letter to accompany the Inspector General's Semiannual Report to Congress for the period of April 1 through September 30, 2025; and consideration of and action on a resolution in recognition and appreciation of distinguished service to the members of LSC's Rural Justice Task Force.

PORTIONS CLOSED TO THE PUBLIC: Matters to be discussed include future board meetings.

CONTACT PERSON FOR MORE INFORMATION: Jessica Wechter, Special Assistant to the President, at (202) 295-1500. Questions may also be sent by electronic mail to the Office of the Corporate Secretary at updates@lsc.gov.

Non-Confidential Meeting Materials: Non-confidential meeting materials will be made available in electronic format at least 24 hours in advance of the meeting on the LSC website, at https://www.lsc.gov/about-lsc/board-meeting-materials.

(Authority: 5 U.S.C. 552b.)

Dated: November 17, 2025.
Stefanie Davis,
Deputy General Counsel, Legal Services Corporation.

[FR Doc. 2025-20310 Filed 11-17-25; 4:15 pm]

BILLING CODE 7050-01-P